DEPARTMENT OF DEFENSE

Office of the Secretary

[DOD-2007-OS-0124]

Privacy Act of 1974; System of Records

AGENCY: Office of the Secretary, DoD.

ACTION: Notice to amend a system of records.

SUMMARY: The Office of the Secretary of Defense is to amend a system of records notices in its existing inventory of record systems subject to the Privacy Act of 1974, (5 U.S.C. 552a), as amended.

DATES: This proposed action will be effective without further notice on December 14, 2007 unless comments are received which result in a contrary determination.

ADDRESSES: Send comments to the OSD Privacy Act Coordinator, Records Management Section, Washington Headquarters Services, 1155 Defense Pentagon, Washington, DC 20301-1155.

FOR FURTHER INFORMATION CONTACT: Mr. Dave Henshall at (703) 696-3243.

SUPPLEMENTARY INFORMATION: The Office of the Secretary of Defense systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: November 7, 2007.
L.M. Bynum,
Alternative OSD Federal Register Liaison Officer, Department of Defense.

DPR 32

Employer Support of the Guard and Reserves Ombudsman and Outreach Programs (April 14, 2006, 71 FR 19486).

Changes:

* * * * *

System location:

Add to the entry “The Office of Secretary of Defense, Chief Information Officer, 1500 Defense Pentagon, RM 3A1080, Washington DC 20301-1500.”

Categories of records in the system:

Delete entry and replace with “Individual's name, Social Security Number (SSN), home address, phone number, branch of service, and assigned military unit, case numbers, problem/resolution codes, e-mail address, National Disaster Medical System member's employer, as well as, phone number and, if applicable, employer point-of-contact, and nature of employment/reemployment conflict, and any notes and documentation prepared as a consequence of assisting the service member.”

* * * * *

Retrievability:

Delete entry and replace with “Individual's name, Company's name, zip codes, case numbers, problems/resolution codes, and/or e-mail address.”

System manager(s) and address:

Delete entry and replace with “Information Technology Director, National Committee, Employer Support of the Guard and Reserve, 1555 Wilson Blvd., Arlington VA 22209-2133.”

* * * * *

Notification procedure:

Delete entry and replace with “Individuals seeking to determine whether information about themselves is contained in this system of records should address written inquiries to Privacy Act Officer, National Committee, Employer Support of the Guard and Reserve, 1555 Wilson Blvd., Arlington VA 22209-2133.

Requests should include the individual's name, address, telephone number, military unit and branch of service or National Disaster Medical System member's employer data, and a brief description of the problem and date of occurrence.”

Record access procedures:

Delete entry and replace with “Individuals seeking access to information about themselves contained in this system of records should address written inquiries to Privacy Act Officer, National Committee, Employer Support of the Guard and Reserve, 1555 Wilson Blvd., Arlington VA 22209-2133.

Requests should include the individual's name, address, telephone number, military unit and branch of service or the National Disaster Medical System member's employer data, and a brief description of the problem and date of occurrence.”

Record source categories:

Delete entry and replace with “The individual, the employer, and the Defense Manpower Data Center's personnel record systems.

* * * * *

DPR 32

System name:

Employer Support of the Guard and Reserve Ombudsman and Outreach Programs.

System location:

The Office of Secretary of Defense, Chief Information Officer, 1500 Defense Pentagon, RM 3A1080, Washington DC 20301-1500.

Oracle On-Demand Advanced Data Center, Austin, TX 78753-2663.

Categories of individuals covered by the system:

Members of the Armed Forces, to include Reserve and National Guard personnel, and members of the National Disaster Medical System (NDMS).

Categories of records in the system:

Individual's name, Social Security Number (SSN), home address, phone number, branch of service, and assigned military unit, case numbers, problem/resolution codes, e-mail address, National Disaster Medical System member's employer, as well as, phone number and, if applicable, employer point-of-contact, and nature of employment/reemployment conflict, and any notes and documentation prepared as a consequence of assisting the service member.

Authority for maintenance of the system:

38 U.S.C. Chapter 43, Employment and Reemployment Rights of Members of the Uniformed Services; 42 U.S.C. 300hh-11(e)(3)(A), Employment and Reemployment Rights; DoD Instruction 1205.22, Employer Support of the Guard and Reserve; DoD Instruction 1205.12, Civilian Employment and Reemployment Rights of Applicants for, and Service Members and Former Service Members of the Uniformed Services; and DoD Directive 1250.1, National Committee for Employer Support of the Guard and Reserve.

Purpose(s):

The purpose of the system is to support the Employer Support of the Guard and Reserve (ESGR) Ombudsman and Outreach Program in providing assistance to service members and members of the National Disaster Medical System in resolving employment-reemployment conflicts and to provide information to employers regarding the requirements of the Uniform Services Employment and Reemployment Act.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, State, and local governmental agencies, as well as to private employers, in furtherance of informal mediation efforts to resolve employment-reemployment conflicts.

To the Department of Labor and the Department of Justice for investigation of, and possible litigation involving, potential violations of the Uniformed Services Employment and Reemployment Rights Act.

The DoD ‘Blanket Routine Uses’ set forth at the beginning of OSD's compilation of systems of records notices do not apply to this system.

Policies and practices for storing, retrieving, accessing, retaining, and disposing of records in the system:

Storage:

Paper file folders and electronic storage media.

Retrievability:

Individual's name, Company, zip codes, case numbers, problems/resolution codes, and/or e-mail address.

Safeguards:

Access to personal information will be maintained in a secure, password protected electronic system that will utilize security hardware and software to include: Multiple firewalls, active intruder detection, and role-based access controls. Paper records will be maintained in a controlled facility where physical entry is restricted by the use of locks, guards, or administrative procedures. Access to records is limited to those officials who require the records to perform their official duties consistent with the purpose for which the information was collected. All personnel whose official duties require access to the information are trained in the proper safeguarding and use of the information.

Retention and disposal:

Permanent.

System manager(s) and address:

The Office of Secretary of Defense, Chief Information Officer, 1500 Defense Pentagon, RM 3A1080, Washington DC 20301-1500.

Notification procedure:

Individuals seeking to determine whether information about themselves is contained in this system of records should address written inquiries to Privacy Act Officer, National Committee, Employer Support of the Guard and Reserve, 1555 Wilson Blvd., Arlington VA 22209-2133.

Requests should include the individual's name, address, telephone number, military unit and branch of service or the National Disaster Medical System member's employer data, and a brief description of the problem and date of occurrence.

Record access procedures:

Individuals seeking access to information about themselves contained in this system of records should address written inquiries to Privacy Act Officer, National Committee, Employer Support of the Guard and Reserve, 1555 Wilson Blvd., Arlington VA 22209-2133.

Requests should include the individual's name, address, telephone number, military unit and branch of service or the National Disaster Medical System member's employer data, and a brief description of the problem and date of occurrence.

Contesting record procedures:

The OSD rules for accessing records, for contesting contents and appealing initial agency determinations are contained in OSD Administrative Instruction 81; 32 CFR part 311; or may be obtained from the system manager.

Record source categories:

Information is obtained from the individual, the employer, and the Defense Manpower Data Center's personnel record systems.

Exemptions claimed for the system:

None.

[FR Doc. E7-22260 Filed 11-13-07; 8:45 am]

BILLING CODE 5001-06-P